DEPARTMENT OF TRANSPORTATION

Research and Special Programs Administration

[Docket No. RSPA-01-8972; Notice 1]

Pipeline Safety: Intent to Consider Waiver and Environmental Assessment of Waiver for Transwestern Pipeline Company

AGENCY: Office of Pipeline Safety, Research and Special Programs Administration, DOT.

ACTION: Notice of intent to consider waiver and environmental assessment of waiver.

SUMMARY: The Office of Pipeline Safety (OPS) is conducting a Risk Management Demonstration Program with pipeline operators to determine how risk management might be used to complement and improve the existing Federal pipeline safety regulatory process. OPS selected Enron Transportation Services Company/Transwestern Pipeline Company (ETS/TW) as a candidate for participation in the Demonstration Program; subsequently, OPS and ETS/TW held discussions as part of an approval process. OPS has not yet approved ETS/TW's application. ETS/TW identified a portion of its system where it believed performing alternative risk control activities in lieu of compliance with current regulations would result in a comparable margin of safety and environmental protection. At an intermediate stage in the project approval process, ETS/TW requested OPS waive certain regulatory requirements relating to class location changes for three pipeline segments. ETS/TW indicated that it would carry out the proposed alternative risk control activities in lieu of compliance with these regulations.

This Notice announces OPS's intent to consider granting a waiver from 49 CFR 192.611 to allow ETS/TW to perform the proposed alternative risk control activities. Among the factors that are crucial to OPS's decision to consider granting the waiver are ETS/TW's selection as a candidate for the Risk Management Demonstration Program and ETS/TW's subsequent participation in a consultation process with OPS. In addition, OPS has found that the overall effect of the proposed waiver is consistent with pipeline safety, because ETS/TW's proposed activities achieve a margin of safety and environmental protection comparable to that achieved by compliance with 49 CFR 192.611. Within 90 days of OPS's adoption of new rules related to integrity management of natural gas pipelines ¹, ETS/TW will be required to re-evaluate the effects of its proposed alternative risk control activities so that OPS can determine whether the terms of the waiver continue to be appropriate and whether the overall effect of the waiver remains consistent with pipeline safety. This Notice also provides an environmental assessment of ETS/TW's proposed alternative activities. Based on this environmental assessment, OPS has preliminarily concluded that this waiver will have no significant environmental impacts. OPS seeks public comment on the proposed waiver and the environmental assessment, so that it may consider and address these comments before making a final decision on this matter.

¹ OPS is considering additional regulations to enhance pipeline integrity in high consequence areas for natural gas transmission pipelines. Additional information on integrity management rule-related activities is available on the OPS web site at http://ops.dot.gov.

ADDRESSES: OPS requests that comments to this Notice or about this environmental assessment be submitted on or before August 6, 2001 so they can be considered before a final determination is made whether to grant the waiver to ETS/TW. Written comments should be sent to the Dockets Facility, U.S. Department of Transportation, Plaza 401, 400 Seventh Street, SW., Washington, DC 20590-0001. Comments should identify the docket number RSPA-01-8972. Persons should submit the original comment document and one (1) copy. Persons wishing to receive confirmation of receipt of their comments must include a self-addressed stamped postcard. The Dockets Facility is located on the plaza level of the Nassif Building in Room 401, 400 Seventh Street, SW., Washington, DC. The Dockets Facility is open from 10:00 a.m. to 5:00 p.m., Monday through Friday, except on Federal holidays. You may also submit comments to the docket electronically. To do so, log on to the DMS Web at http://dms.dot.gov. Click on Help & Information to obtain instructions for filing a document electronically.

FOR FURTHER INFORMATION CONTACT: Elizabeth Callsen, OPS, (202) 366-4572, regarding the subject matter of this Notice. Contact the Dockets Unit, (202) 366-5046, for docket material. Comments may also be reviewed online at the DOT Docket Management System website at http://dms.dot.gov/.

SUPPLEMENTAL INFORMATION:

1. Background

In 1996, the Secretary of Transportation was authorized to establish risk management demonstration projects in partnership with operators of gas and liquid pipeline facilities, pursuant to U.S.C. § 60126. In 1997, OPS announced that Enron Transportation Services Company affiliate Florida Gas Transmission Company (FGTC) and eleven other pipeline companies would be candidates for participation in the Risk Management Demonstration Program.²,³ Subsequently, Enron Transportation Services Company (ETS) informed OPS that Transwestern Pipeline Company (TW) would replace FGTC as its candidate for the program.⁴ Following the selection of candidate companies, a consultation process commenced, in which an OPS Project Review Team (PRT) and ETS/TW held discussions regarding ETS/TW's participation in the Demonstration Program. The consultation process involved OPS's technical scrutiny of ETS/TW's safety practices and pipeline integrity.

² Candidates for the Pipeline Risk Management Demonstration Program [62 Federal Register 143, July 25, 1997].

³ Pipeline Safety: Remaining Candidates for the Pipeline Risk Management Demonstration Program [62 Federal Register 197, October 10, 1997].

⁴ Letter from William R. Cordes and Stanley C. Horton, Transwestern Pipeline Company to R.B. Felder, OPS, December 18, 1998.

During the course of the consultation process, ETS/TW identified three pipeline segments in its system where it proposed to conduct risk control alternative activities (the “Activities”) in lieu of the class location change requirements in 49 CFR 192.611. ETS/TW provided documents describing its proposed Activities for the three segments (the “waiver segments”). The PRT and ETS/TW agreed that it would be appropriate to address the proposed substitution of the Activities for compliance with 49 CFR 192.611 via waiver.⁵ This document summarizes OPS's review of the proposed Activities and evaluates whether the terms of the waiver would be consistent with pipeline safety pursuant to 49 U.S.C. 60118(c).

⁵ ETS/Transwestern Risk Management Demonstration Project, PRT Meeting Summary, March 9, 2000.

2. OPS Evaluation of ETS/TW's Proposed Alternative Risk Control Activities

Representatives from OPS Headquarters and Southwestern Region evaluated ETS/TW's proposed Activities. OPS met with ETS/TW to discuss the current risk assessment and risk control processes ETS/TW uses, how these processes were used to identify and define the Activities, and the analysis of the protection achieved by the Activities compared to the protection 49 CFR 192.611 provides. The evaluation also included an environmental assessment, which is described in Appendix A of this Notice.

The ETS/TW System transports pressurized natural gas, which is lighter than air and flammable. If released as a result of a pipeline leak or rupture, natural gas can potentially ignite causing fires or explosions. Protection of the public and environment by the prevention of pipeline leaks and ruptures is the highest priority for OPS and ETS/TW. A major review criterion for this evaluation is whether the Activities ETS/TW has proposed will achieve a margin of safety and environmental protection comparable to that achieved through compliance with 49 CFR 192.611. It is the preliminary opinion of OPS that implementing the proposed Activities will result in a comparable margin of safety and environmental protection.

Once OPS has considered comments it receives in response to this Notice, OPS will make a final determination regarding whether to grant a waiver to ETS/TW to allow implementation of the Activities in lieu of compliance with 49 CFR 192.611.

3. Alternative Risk Control Activity Locations

The proposed Activities focus on controlling the risks in three pipeline segments located near Church Rock, NM, in the northwest corner of the state not far from the Arizona border. These waiver segments are located on the main transmission line in segment L-154 and on a parallel loop line in segment L-254. The waiver segments lie in McKinley County, New Mexico. The stationing and lengths of the three segments are:

Main line L-154: From M.P. 1173+06 to M.P. 1195+94 (2,288 feet)

Main line L-154: From M.P. 1226+92 to M.P. 1232+−5 (513 feet)

Loop line L-254: From M.P. 1247+47 to M.P. 1261+12 (1365 feet)

4. Description of Waiver: Alternative Risk Control Activities Designed To Provide Comparable Margin of Safety

4.1 Current Regulatory Requirements

This section describes the current regulatory requirements in 49 CFR § 192.611 governing actions that must be taken by a pipeline operator when population density increases along a pipeline.

OPS categorizes all locations along natural gas pipelines according to the population densities near the pipelines (see 49 CFR 192.5). Locations with the lowest population density (10 or fewer buildings intended for human occupancy within an area that extends 220 yards on either side of the centerline of any continuous one mile length pipeline) are designated as Class 1. As the population along a pipeline increases, the class location increases. For example, Class 2 locations have more than 10 but fewer than 46 buildings intended for human occupancy. Class 3 locations have 46 or more buildings intended for human occupancy, or are areas where a pipeline lies within 100 yards of either a building or small, well-defined outside area (such as a playground, recreation area, outdoor theater, or other place of public assembly) that is occupied by 20 or more persons on at least 5 days a week for 10 weeks in any 12 month period. Class 4 locations are any class location unit where buildings with four or more stories above ground are prevalent (e.g. large office buildings).

All three of the ETS/TW waiver segments (identified in Section 3) have changed from Class 1 to Class 3 due to the addition and clustering of mobile homes in the area.

Pipeline safety regulations impose more stringent design and operational requirements as the class location increases. When a class location changes to a higher class (e.g., from class 2 to class 3), the operator must reduce the operating pressure on the pipeline to provide an additional margin of safety. The operator may be able to avoid reducing pressure, in some cases, if a pressure test on the pipe has confirmed that a prescribed safety margin exists. In these cases, if a previous pressure test has not confirmed the prescribed safety margin, then the operator must test the pipe to confirm the margin. In other cases, the operator must reduce the pressure or replace the pipe with new pipe.

ETS/TW has stated that in order to provide reliable natural gas service to its customers, it cannot permanently reduce the operating pressure along the waiver segments. Consequently, in order to meet pipeline safety regulations, ETS/TW would be required to replace the pipe in the three waiver segments. By replacing the existing pipe with new pipe that has the prescribed design factor, ETS/TW could eliminate the possibility that defects in the original materials and construction, as well as corrosion that may have occurred since installation, would result in a failure.

4.2 ETS/TW's Proposed Alternative Risk Control Activities

For each waiver segment, ETS/TW proposes to perform the following alternative risk control activities, with the objective of providing a margin of safety and environmental protection comparable to pipe replacement:

1. Internally inspect the waiver segments using geometry and magnetic flux leakage in-line inspection tools. (Current regulations do not require internal inspection). These tools reliably identify most indications of wall loss (e.g. corrosion), as well as dents and gouges from initial construction damage or third party excavators working along the pipeline right-of-way. ETS/TW has performed these internal inspections and the OPS Southwestern region has reviewed the inspection results.

2. Internally inspect an extended length of pipe (the “extended segments”) bordering each waiver segment to further extend the benefits of the integrity analysis. The extended segments cover the distance between Compressor Stations 5 and 4 on both the main line and the loop line, a distance of approximately 129.5 miles.

3. Repair indications of corrosion, existing construction damage, and existing outside force damage identified by the internal inspection. ETS/TW used more conservative investigation and repair criteria in the waiver segments than is currently required by the regulations. The criteria call for investigation and repairs of small dents and anomalies that are well below the size at which a challenge to pipeline integrity might be expected.

4. Implement improved measures to prevent third-party damage to the pipelines in the waiver segments. These measures include installation of a new style of right-of-way marker at closer intervals, increasing vehicular and aerial surveillance from monthly to semi-monthly, and increased interaction with local contractors who would be most likely to dig in the area of the pipeline.

5. Perform monitoring of the waiver segments using portable waveform monitoring instrumentation that supplements and enhances the monitoring now required by regulation. These surveys will be compared with the results of the internal inspection of the lines.

In addition, ETS/TW proposes to conduct the following risk control activities on portions of its pipeline outside the waiver segments to supplement protection provided by the pipeline safety regulations:

6. Conduct a corrosion technology evaluation project comparing various corrosion monitoring technologies. This project will provide information to ETS/TW, and to OPS, regarding the relative effectiveness of different monitoring techniques on conditions endemic to line pipe in the Southwest. ETS/TW will survey additional portions of its pipeline using techniques shown by the corrosion technology evaluation project to be most effective.

7. Internally inspect an additional length of pipe on the main line between compressor stations 6 and 8, a distance of approximately 143.5 miles. These segments contain pipe known to have lower toughness. Current regulations do not require inspection of these segments, pipe replacement, or pressure reduction. These internal inspections are to be conducted by Fall 2001.

8. Repair indications of corrosion, existing construction damage, and existing outside force damage identified by the internal inspection based upon ETS/TW procedures. The criteria call for investigation and repairs of small dents and anomalies that are well below the size at which a challenge to pipeline integrity might be expected.

9. Install subsidence monitoring equipment at each main line valve and pigtrap assembly from Compressor station #6 to Compressor station #8, an area where possible subsidence contributes to the risk from the pipeline. Subsidence will be monitored in these locations for a minimum of two years.

Many of these Activities have been completed. OPS will condition any waiver to require completion of Activities that have not been completed at the time the waiver is issued.

OPS has compared the expected risk reduction produced by the Activities to that which would be achieved by compliance with 49 CFR 192.611 and has concluded that in the waiver segments the Activities will likely achieve a margin of safety and environmental protection comparable to that which would be achieved through compliance with 49 CFR 192.611. Furthermore, because of the resources saved by not having to replace pipe in the waiver segments, ETS/TW will be able to assess the integrity of additional portions of its system, which reduces the overall risks along the ETS/TW pipeline system. This will result in superior safety performance overall.

5. OPS's Proposed Action

Based on OPS's evaluation of ETS/TW's proposed Activities, OPS is considering granting ETS/TW a waiver from the pressure confirmation and pipe replacement requirements of 49 CFR 192.611. A waiver would require ETS/TW to implement the proposed Activities in lieu of compliance with this requirement. In addition, ETS/TW along with OPS, would monitor the Activities' effectiveness.

No more than 90 days after OPS adopts new rules related to integrity management of natural gas pipelines, ETS/TW will be required to re-evaluate the rule's effect on this waiver so that OPS can determine whether the terms of the waiver continue to be appropriate and the overall effect of the waiver remains consistent with pipeline safety. If OPS determines that the terms of the waiver are no longer appropriate or that the overall effect of the waiver is inconsistent with pipeline safety, OPS will revoke the waiver and require ETS/TW to comply with 49 CFR 192.611.

6. Regulatory Perspective

Why Is OPS Considering This Waiver?

OPS has determined that the terms of the waiver are appropriate and that the overall effect of the waiver is consistent with pipeline safety. The following factors were considered when making this determination:

1. The proposed Activities will provide a comparable margin of safety and protection for the environment and the communities in the vicinity of ETS/TW's pipelines;

2. The three waiver segments have a good integrity history, with no leaks recorded during operation or hydrostatic testing.

3. ETS/TW has internally inspected a total of 129.5 miles of pipe, including the waiver segments. ETS/TW will additionally inspect a total of 143.5 miles. These activities add protection against pipeline failures from corrosion, manufacturing and construction defects, and outside third-party damage along this full 273 mile length. Compliance with 49 CFR 192.611 would require replacement of pipe or requalification tests within the waiver segments only (less than 1 mile of pipe), with no added protection for the additional segments. The ETS/TW Activities provide added protection by including the additional segments.

4. ETS/TW was selected as a candidate for the Risk Management Demonstration Program and has participated in a consultation process with OPS, which included an enhanced sharing with OPS of information related to the integrity of ETS/TW's pipeline.

How Will OPS Oversee the Activities?

OPS retains its authority to enforce ETS/TW's compliance with the pipeline safety regulations. OPS is only considering whether to grant a waiver from compliance with 49 CFR 192.611 at those three segments where ETS/TW has demonstrated that its proposed Activities achieve a comparable margin of safety and environmental protection. Should any information subsequently indicate that the terms of the waiver are no longer appropriate or that the overall effect of the waiver is inconsistent with pipeline safety, then OPS retains its authority to revoke the waiver and require ETS/TW to again comply with 49 CFR 192.611.

This Notice is OPS's final request for public comment before OPS makes a final decision on whether to grant the waiver to ETS/TW.

Issued in Washington, DC, on June 20, 2001.
Stacey L. Gerard,
Associate Administrator for Pipeline Safety.

[FR Doc. 01-16782 Filed 7-3-01; 8:45 am]

BILLING CODE 4910-60-P